DEPARTMENT OF COMMERCE

National Oceanic and Atmospheric Administration

RIN 0648-XF052

Western Pacific Fishery Management Council; Public Meeting; Correction

AGENCY: National Marine Fisheries Service (NMFS), National Oceanic and Atmospheric Administration (NOAA), Commerce.

ACTION: Notice of a change to a public meeting notice.

SUMMARY: The Western Pacific Fishery Management Council (Council) announces a change in location for its Hilo, HI public meetings and scoping sessions to discuss fishery management regulations for the Monument Expanded Area in the Northwestern Hawaiian Islands.

DATES: The Council will hold meetings in Hilo, HI on Tuesday, December 6, 2016, between 6 p.m. and 9 p.m. All times listed are local island times. For specific times and agendas, see SUPPLEMENTARY INFORMATION.

ADDRESSES: The Hilo meeting will be held at the University of Hawaii at Hilo, Edith Kanakaole Hall Room 126, 200 W Kawili St, Hilo, HI 96720.

FOR FURTHER INFORMATION CONTACT: Kitty M. Simonds, Executive Director, Western Pacific Fishery Management Council; telephone: (808) 522-8220.

SUPPLEMENTARY INFORMATION: The original notice published in the Federal Register on November 21, 2016 (81 FR 83204). The location of the meeting was changed from the previous notice. The agenda has not changed and public scoping and comment periods will be provided in the agenda. The order in which agenda items are addressed may change. The meetings will run as late as necessary to complete scheduled business.

Schedule and Agenda for All Meetings

1. Visit Informational Booths

2. Informational Briefing on Presidential Proclamation, Council Role in Rule-making Process, Data Discovery

3. Public Comment/Scoping Session

4. Adjourn

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: November 22, 2016.
Tracey L. Thompson,
Acting Deputy Director, Office of Sustainable Fisheries, National Marine Fisheries Service.

[FR Doc. 2016-28614 Filed 11-28-16; 8:45 am]

BILLING CODE 3510-22-P